DEPARTMENT OF TRANSPORTATION

Federal Aviation Administration

14 CFR Part 39

[Docket No. FAA-2004-18579; Directorate Identifier 2004-CE-19-AD]

RIN 2120-AA64

Airworthiness Directives; Pilatus Aircraft Ltd. Model PC-7 Airplanes

AGENCY: Federal Aviation Administration (FAA), DOT.

ACTION: Notice of proposed rulemaking (NPRM).

SUMMARY: The FAA proposes to adopt a new airworthiness directive (AD) for certain Pilatus Aircraft Ltd. (Pilatus) Model PC-7 airplanes with any Lear Romec RR53710B type or Lear Romec RR53710K fuel booster pump (Pilatus part number 968.84.11.401; 968.84.11.403; or 968.84.11.404) installed. This proposed AD would require you to check the airplane logbook to determine whether any installed fuel booster pump has been modified with spiral wrap to protect the wire leads and has the suffix letter “B” added to the serial number of the fuel booster pump identification plate. If any installed fuel booster pump has not been modified, you are required to inspect any installed fuel booster pump wire lead for defects; if defects are found, replace the fuel booster pump with a modified fuel booster pump with spiral wrap that protects the wire leads; or if no defects are found, install spiral wrap to protect any wire leads and adding the suffix letter “B” to the serial number of the fuel booster pump identification plate. The pilot is allowed to do the logbook check. If the pilot can positively determine that the fuel booster pump wire leads with spiral wrap are installed following the service information and that the suffix letter “B” is included in the serial number of the fuel booster pump identification plate, no further action is required. This proposed AD is the result of mandatory continuing airworthiness information (MCAI) issued by the airworthiness authority for Switzerland. We are issuing this proposed AD to detect and correct any defects in the leads of any fuel booster pump, which could result in electrical arcing. This failure could lead to a fire or explosion in the fuel tank.

DATES: We must receive any comments on this proposed AD by September 22, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

You may get the service information identified in this proposed AD from Pilatus Aircraft Ltd., Customer Liaison Manager, CH-6371 Stans, Switzerland; telephone: +41 41 619 6208; facsimile: +41 41 619 7311; e-mail: SupportPC12@pilaltus-aircraft.com or from Pilatus Business Aircraft Ltd., Product Support Department, 11755 Airport Way, Broomfield, Colorado 80021; telephone: (303) 465-9099; facsimile: (303) 465-6040.

You may view the comments to this proposed AD in the AD docket on the Internet at http://dms.dot.gov.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How do I comment on this proposed AD? We invite you to submit any written relevant data, views, or arguments regarding this proposal. Send your comments to an address listed under ADDRESSES. Include the docket number, “FAA-2004-18579; Directorate Identifier. 2004-CE-19-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-18579. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation Nassif Building at the street address stated in ADDRESSES. You may also view the AD docket on the Internet at http://dms.dot.gov. The comments will be available in the AD docket shortly after the DMS receives them.

Discussion

What events have caused this proposed AD? The Federal Office for Civil Aviation (FOCA), which is the airworthiness authority for Switzerland, recently notified FAA that an unsafe condition may exist on certain Pilatus Model PC-7 airplanes. The FOCA reports that there have been 11 reports of damaged fuel boost pump wire leads from 9 Model PC-12 airplanes that have a similar type design. Further, the FOCA reports that it possible that the wire leads to the left and right fuel pumps are damaged. This could possibly cause electrical arcs from the leads in an air/fuel mixture.

What is the potential impact if FAA took no action? Any electrical arcing could lead to a fire or explosion in the fuel tank.

Is there service information that applies to this subject? Pilatus has issued the following service information:

—Pilatus PC-7 Service Bulletin No. 28-009, dated October 6, 2003;

—Pilatus PC-7 Maintenance Manual No. 12-10-01, dated November 30, 2003; and

—Pilatus PC-7 Maintenance Manual No. 28-20-03, dated November 30, 2003.

What are the provisions of this service information? The service information includes procedures for:

Pilatus PC-7 Service Bulletin No. 28-009, dated October 6, 2003:

—inspecting any installed Lear Romec RR53710B type or Lear Romec RR53710K fuel booster pump (Pilatus part number (P/N) 968.84.11.401; 968.84.11.403; or 968.84.11.404) wire leads for any defects;

—if any defects in any wire lead of the installed fuel booster pump is found, replacing the fuel booster pump with a modified fuel booster pump (serial number with suffix letter “B”) that has the wire leads protected with spiral wrap;

—if no defects are found, installing spiral wrap to protect any wire leads and adding the suffix letter “B” to the serial number of the fuel booster pump identification plate; and

—inspecting for any defects of and modifying any spare fuel booster pump (P/N 968.84.11.401; 968.84.11.403; or 968.84.11.404) before installation.

Pilatus PC-7 Maintenance Manual No. 12-10-01, dated November 30, 2003:

—servicing the fuel system.

—Pilatus PC-7 Maintenance Manual No. 28-20-03, dated November 30, 2003:

—removing and installing the fuel booster pump.

What action did the FOCA take? The FOCA classified this service bulletin as mandatory and issued Swiss AD Number HB-2004-210, issue dated June 11, 2004, to ensure the continued airworthiness of these airplanes in Switzerland.

Did the FOCA inform the United States under the bilateral airworthiness agreement? These certain Pilatus Model PC-7 airplanes are manufactured in Switzerland and are type-certificated for operation in the United States under the provisions of section 21.29 of the Federal Aviation Regulations (14 CFR 21.29) and the applicable bilateral airworthiness agreement.

Under this bilateral airworthiness agreement, the FOCA has kept us informed of the situation described above.

FAA's Determination and Requirements of This Proposed AD

What has FAA decided? We have examined the FOCA's findings, reviewed all available information, and determined that AD action is necessary for products of this type design that are certificated for operation in the United States.

Since the unsafe condition described previously is likely to exist or develop on other certain Pilatus Model PC-7 airplanes of the same type design that are registered in the United States, we are proposing AD action to detect and correct any defects in the leads of any fuel booster pump, which could result in electrical arcing. This failure could lead to a fire or explosion in the fuel tank.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 10 airplanes in the U.S. registry.

What would be the cost impact of this proposed AD on owners/operators of the affected airplanes? We estimate the following costs to do this proposed inspection:

Labor cost | Parts cost | Total cost per airplane | Total cost on U.S. operators
1 workhour × $65 per hour = $65 | Not applicable | $65. | $65 × 10 = $650.

We estimate the following costs to do any necessary replacement of any fuel boost pump, including the installation of any wire wrap, that would be required based on the results of this proposed inspection. We have no way of determining the number of airplanes that may need this installation:

Labor cost | Parts cost | Total cost total per airplane
5 workhours × $65 per hour = $325 | $2,800 for each fuel booster pump | $2,800 + $325 = $3,125 for each fuel booster pump installation.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-18579; Directorate Identifier 2004-CE-19-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Ltd.: Docket No. FAA-2004-18579; Directorate Identifier 2004-CE-19-AD

When is the Last Date I Can Submit Comments on This Proposed AD?

(a) We must receive comments on this proposed airworthiness directive (AD) by September 22, 2004.

What Other ADs Are Affected By This Action?

(b) None.

What Airplanes Are Affected by This AD?

This AD affects Model PC-7 airplanes, serial numbers 101 through 618, that are:

(1) equipped with Lear Romec RR53710B type or Lear Romec RR53710K fuel booster pump, Pilatus part number (P/N) 968.84.11.401; 968.84.11.403; or 968.84.11.404; and

(2) certificated in any category.

What Is the Unsafe Condition Presented in This AD?

(d) This AD is the result of mandatory continuing airworthiness information (MCAI) issued by the airworthiness authority for Switzerland. The actions specified in this AD are intended to detect and correct any defects in the leads of any fuel booster pump, which could result in electrical arcing. This failure could lead to a fire or explosion in the fuel tank.

What Must I Do To Address This Problem?

(e) To address this problem, you must do the following, unless already done:

Actions | Compliance | Procedures
(1) Check the airplane logbook to ensure that any fuel booster pump (part number (P/N) 968.84.11.401; 968.84.11.403; or 968.84.11.404) has been modified with spiral wrap to protect the wire leads and has the suffix letter “B” added to the serial number of the fuel booster pump identification plate as required by paragraph (e)(5) of this AD | Within 50 hours' time-in-service after the effective date of this AD, unless already done | The owner/operator holding at least a private pilot certificate as authorized by section 43.7 of the Federal Aviation Regulations (14 CFR 43.7) may perform this check.
(2) If you can positively determine that any fuel booster pump (P/N 968.84.11.401; 968.84.11.403; or 968.84.11.404) has been modified following the Accomplishment Instructions—Aircraft section in Pilatus PC-7 Service Bulletin No. 28-009, dated October 6, 2003, and has the suffix letter “B” added to the serial number of the fuel booster pump identification plate as required by paragraph (e)(5) of this AD, then no further action is required | Not Applicable | Not Applicable.
(3) Inspect any fuel booster pump (P/N 968.84.11.401; 968.84.11.403; or 968.84.11.404) leads for any defects | Within 50 hours' time-in-service after the effective date of this AD, unless already done | Follow the Accomplishment Instructions—Aircraft section in Pilatus PC-7 Service Bulletin No. 28-009, dated October 6, 2003. This subject is also addressed in the Pilatus PC-7 Airplane Maintenance Manual.
(4) If any defect is found during the inspection required by paragraph (e)(1) of this AD, replace the fuel booster pump | Before further flight after the inspection required by paragraph (e)(1) of this AD in which any defect is found | Follow the Accomplishment Instructions—Aircraft section in Pilatus PC-7 Service Bulletin No. 28-009, dated October 6, 2003. This subject is also addressed in the Pilatus PC-7 Airplane Maintenance Manual.
(5) If no defects are found during the inspection required by paragraph (e)(1) of this AD, modify any fuel booster pump (P/N 968.84.11.401; 968.84.11.403; or 968.84.11.404) by installing the lead protection by using a spiral wrap. After doing the modification, re-identify the fuel booster pump (P/N 968.84.11.401; 968.84.11.403; or 968.84.11.404) by adding the suffix letter “B” to the serial number of the fuel booster pump identification plate | Before further flight after inspection required by paragraph (e)(1) of this AD where no defect is found | Follow the the Accomplishment Instructions—Aircraft section in Pilatus PC-7 Service Bulletin No. 28-009, dated October 6, 2003. This subject is also addressed in the Pilatus PC-7 Airplane Maintenance Manual.
(6) Do not install any fuel booster pump (P/N 968.84.11.401; 968.84.11.403; or 968.84.11.404) that has not been modified and identified with the suffix letter “B” to the serial number of the fuel booster pump identification plate | As of the effective date of this AD | Follow the Accomplishment Instructions—Spares section in Pilatus PC-7 Service Bulletin No. 28-009, dated October 6, 2003.

Note 1: Incorporate Pilatus PC-7 Maintenance Manual No. 28-20-03, dated November 30, 2003, and Pilatus PC-7 Maintenance Manual No. 12-10-01, dated November 30, 2003, in the appropriate section of the airplane maintenance manual.

Note 2: Wiring defects are addressed in paragraph 11-97 in FAA Advisory Circular (AC) 43.13-1B.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

May I Get Copies of the Documents Referenced in this AD?

(g) You may get copies of the documents referenced in this AD from Pilatus Aircraft Ltd., Customer Liaison Manager, CH-6371 Stans, Switzerland; telephone: +41 41 619 6208; facsimile: +41 41 619 7311; e-mail: SupportPC12@pilaltus-aircraft.com or from Pilatus Business Aircraft Ltd., Product Support Department, 11755 Airport Way, Broomfield, Colorado 80021; telephone: (303) 465-9099; facsimile: (303) 465-6040. You may view the AD docket at the Docket Management Facility; U.S. Department of Transportation, 400 Seventh Street, SW., Nassif Building, Room PL-401, Washington, DC, or on the Internet at http://dms.dot.gov.

Is There Other Information That Relates to This Subject?

(h) Swiss AD Number HB-2004-210, issue dated June 11, 2004, also addresses the subject of this AD.

Issued in Kansas City, Missouri, on August 13, 2004.
John R. Colomy,
Acting Manager, Small Airplane Directorate, Aircraft Certification Service.

[FR Doc. 04-19158 Filed 8-19-04; 8:45 am]

BILLING CODE 4910-13-P